NUCLEAR REGULATORY COMMISSION

Correction to Biweekly Notice Applications and Amendments to Operating Licenses Involving No Significant Hazards Consideration

On February 7, 2001 (66 FR 9377), the Federal Register published the “Biweekly Notice of Applications and Amendments to Operating Licenses Involving No Significant Hazards Considerations.” On page 9377, column 3, second paragraph, “January 29, 2001, through February 9, 2001” should read “January 16, 2001 through January 26, 2001.”

Dated at Rockville, Maryland, this 9th day of February 2001.
For the Nuclear Regulatory Commission.
John A. Zwolinski,
Director, Division of Licensing Project Management, Office of Nuclear Reactor Regulation.

[FR Doc. 01-3827 Filed 2-14-01; 8:45 am]

BILLING CODE 7590-01-P